ENVIRONMENTAL PROTECTION AGENCY

[EPA-HQ-OPPT-2019-0456; FRL-10003-42]

Agency Information Collection Activities; Proposed Renewal of an Existing Collection (EPA ICR No. 2446.03 and OMB Control No. 2070-0185); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Formaldehyde Standards for Composite Wood Products Act” and identified by EPA ICR No. 2446.03 and OMB Control No. 2070-0185, represents the renewal of an existing ICR that is scheduled to expire on June 30, 2020. Before submitting the ICR to OMB for review and approval, EPA is soliciting comments on specific aspects of the proposed information collection that is summarized in this document. The ICR and accompanying material are available in the docket for public review and comment.

DATES: Comments must be received on or before March 30, 2020.

ADDRESSES: Submit your comments, referencing Docket ID No. EPA-HQ-OPPT-2019-0456 by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

FOR FURTHER INFORMATION CONTACT: Todd Coleman, National Program Chemicals Division, Office of Pollution Prevention and Toxics, Environmental Protection Agency, 1200 Pennsylvania Ave. NW, Washington, DC 20460-0001; telephone number: (202) 564-1208; email address: coleman.todd@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Formaldehyde Standards for Composite Wood Products Act.

EPA ICR number: EPA ICR No. 2446.03.

OMB control number: OMB Control No. 2070-0185.

ICR status: This ICR is currently approved through June 30, 2020. An Agency may not conduct or sponsor, and a person is not required to respond to, a collection of information, unless it displays a currently valid OMB control number. The OMB control numbers for EPA regulations in title 40 of the Code of Federal Regulations (CFR) are displayed either by publication in the Federal Register or by other appropriate means, such as on the related collection instrument or form, if applicable. The display of OMB control numbers for certain EPA regulations is consolidated in 40 CFR part 9.

Abstract: This ICR renewal covers the recordkeeping and reporting requirements for all aspects of the TSCA Title VI implementing regulations and regulations relating to accreditation bodies (ABs) and third-party certifiers (TPCs) that wish to participate in this third-party certification program. As part of maintaining recognition in the TSCA Title VI program, these ABs and TPCs must submit initial applications for recognition and update those applications every three and two years respectively using the Agency's Central Data Exchange (CDX) system. In addition, ABs and TPCs must submit annual reports which relay certain information to the Agency on the TSCA Title VI certification and testing activities both ABs and TPCs have performed over the last year. Through the CDX, Product ABs are responsible for reporting various notifications and annual reports pursuant to 40 CFR 770.7(a) and Laboratory ABs are responsible for reporting various notifications and annual reports pursuant to 40 CFR 770.7(b). Should an AB conduct both product and laboratory AB services for any of its TPCs, that AB would be responsible for satisfying the reporting obligations for both Product and Laboratory AB roles.

TPCs are responsible for the certification of regulated composite wood products at the mill level through the oversight of panel producers, routine quarterly testing of composite wood products, and physical inspections of the panel production facilities. Through the Agency's CDX, TPCs are responsible for reporting information including various notifications and annual reports pursuant to 40 CFR 770.7(c). TPCs are also responsible for notifying the Agency of any approval of a no-added formaldehyde limited exemption or an ultra-low emitting formaldehyde exemption of reduced testing approval which they issue to the mills they certify after submitting the required information to the Agency.

Panel producers are responsible for communicating routine testing documentation to their respective TPC pursuant to their responsibilities under 40 CFR 770.20 and 40 CFR 770.40. Panel producers are also responsible for providing certain records to downstream entities and purchasers of regulated composite wood products as well as the Agency, upon request.

Importers, fabricators, distributors, and retailers are responsible for maintaining records pursuant to 40 CFR 770.30 and 40 CFR 770.40(d).

Burden statement: The annual public reporting and recordkeeping burden for this collection of information is estimated to average 84,793 hours (per year). Burden is defined in 5 CFR 1320.3(b).

The ICR, which is available in the docket along with other related materials, provides a detailed explanation of the collection activities and the burden estimate that is only briefly summarized here:

Respondents/affected entities: Panel producers, fabricators, distributors, retailers, TPCs, and ABs.

Respondent's obligation to respond: Mandatory (15 U.S.C. 2697).

Estimated total number of potential respondents: 990,269 firms (total).

Frequency of response: On occasion.

Estimated total annual burden: 84,793 hours (per year). Burden is defined at 5 CFR 1320.03(b).

Estimated total annual costs: $19,638,018 (per year), with no annualized capital or operation and maintenance costs.

III. Are there changes in the estimates from the last approval?

There is an overall decrease of 1,396,732 hours in the total estimated combined respondent burden compared with the ICR currently approved by OMB. This decrease is due to adjustments in EPA's estimates of the burden, reflecting activities that only had one-time burdens associated with the initial implementation of the rule, and revisions to the estimated number of respondents based on the actual number of participants in the TSCA Title VI program. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: January 17, 2020.
Alexandra Dapolito Dunn,
Assistant Administrator, Office of Chemical Safety and Pollution Prevention.

[FR Doc. 2020-01344 Filed 1-27-20; 8:45 am]

BILLING CODE 6560-50-P